DEPARTMENT OF COMMERCE

National Oceanic and Atmospheric Administration

RIN 0648-XB033

Marine Mammals; File No. 16991

AGENCY: National Marine Fisheries Service (NMFS), National Oceanic and Atmospheric Administration (NOAA), Commerce.

ACTION: Notice; issuance of permit.

SUMMARY: Notice is hereby given that a permit has been issued to James T. Harvey, Ph.D., Moss Landing Marine Laboratories, 8272 Moss Landing Road, Moss Landing, California 95039 to conduct research on harbor seals (Phoca vitulina).

ADDRESSES: The permit and related documents are available for review upon written request or by appointment in the following offices: See SUPPLEMENTARY INFORMATION.

FOR FURTHER INFORMATION CONTACT: Joselyd Garcia-Reyes or Amy Sloan, (301) 427-8401.

SUPPLEMENTARY INFORMATION: On February 28, 2012, notice was published in the Federal Register (77 FR 12009) that a request for a permit to conduct research on harbor seals had been submitted by the above-named applicant. The requested permit has been issued under the authority of the Marine Mammal Protection Act of 1972, as amended (16 U.S.C. 1361 et seq.) and the regulations governing the taking and importing of marine mammals (50 CFR part 216).

The permit authorizes harassment and capture of harbor seals in California, Oregon, Washington, and Alaska. Harassment is authorized during ground and vessel surveys, and playback experiments. Animals captured will have some or all of the following procedures done: mass, morphometrics, and sex determined; blubber depth and biopsy; lavage/enema; flipper and PIT tagged; blood, swabs, skin and hair sampled; and attachment of external instruments and surgical implantation of radio tags. California sea lions (Zalophus californianus) and northern elephant seals (Mirounga angustirostris) may be harassed during activities conducted under this permit. Harbor seal mortalities are authorized incidental to research. The permit expires on May 30, 2017.

In compliance with the National Environmental Policy Act of 1969 (42 U.S.C. 4321 et seq.), a final determination has been made that the activity proposed is categorically excluded from the requirement to prepare an environmental assessment or environmental impact statement.

Documents may be reviewed in the following locations:

Permits and Conservation Division, Office of Protected Resources, NMFS, 1315 East-West Highway, Room 13705, Silver Spring, MD 20910; phone (301) 427-8401; fax (301) 713-0376;

Northwest Region, NMFS, 7600 Sand Point Way NE., BIN C15700, Bldg. 1, Seattle, WA 98115-0700; phone (206) 526-6150; fax (206) 526-6426;

Alaska Region, NMFS, P.O. Box 21668, Juneau, AK 99802-1668; phone (907) 586-7221; fax (907) 586-7249; and

Southwest Region, NMFS, 501 West Ocean Blvd., Suite 4200, Long Beach, CA 90802-4213; phone (562) 980-4001; fax (562) 980-4018.

Dated: May 17, 2012.
Tammy C. Adams,
Acting Chief, Permits and Conservation Division, Office of Protected Resources, National Marine Fisheries Service.

[FR Doc. 2012-12514 Filed 5-22-12; 8:45 am]

BILLING CODE 3510-22-P